SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before May 27, 2003.

ADDRESSES: Send all comments regarding whether this information collection is necessary for the proper performance of the function of the agency, whether the burden estimates are accurate, and if there are ways to minimize the estimated burden and enhance the quality of the collection, to Carol Fendler, Director, Office of Licensing and Program Standards, Small Business Administration, 409 3rd Street SW., Suite 6300, Washington, DC 20416

FOR FURTHER INFORMATION CONTACT: Carol Fendler, Director, 202-205-7559 or Curtis B. Rich, Management Analyst, 202-205-7030.

SUPPLEMENTARY INFORMATION: Title: Licenses Application.

Form No's: 2181, 2182 & 2183.

Description of Respondents: Small Business Investment Companies.

Annual Responses: 210.

Annual Burden: 12,000.

Jacqueline White,
Chief, Administrative Information Branch.

[FR Doc. 03-6962 Filed 3-24-03; 8:45 am]

BILLING CODE 8025-01-P